DEPARTMENT OF JUSTICE

[OMB 1140-0003]

Agency Information Collection Activities; Proposed eCollection eComments Requested; Extension of a Previously Approved Collection; Report of Multiple Sale or Other Disposition of Pistols and Revolvers—ATF Form 3310.4

AGENCY: Bureau of Alcohol, Tobacco, Firearms and Explosives, Department of Justice.

ACTION: 60-Day notice.

SUMMARY: The Department of Justice (DOJ), The Bureau of Alcohol, Tobacco, Firearms and Explosives (ATF), will be submitting the following information collection request to the Office of Management and Budget (OMB) for review and approval in accordance with the Paperwork Reduction Act of 1995.

DATES: Comments are encouraged and will be accepted for 60 days until October 18, 2024.

FOR FURTHER INFORMATION CONTACT: If you have additional comments especially on the estimated public burden or associated response time, suggestions, or need a copy of the proposed information collection instrument with instructions or additional information, contact: Matthew Grim, NSC/NTC Division/Tracing Operations & Records Management (TORM), either by mail at 244 Need Rd., Martinsburg, WV 25405, by email at matthew.grim@atf.gov, or telephone at 304-260-3683.

SUPPLEMENTARY INFORMATION: Written comments and suggestions from the public and affected agencies concerning the proposed collection of information are encouraged. Your comments should address one or more of the following four points:

—Evaluate whether the proposed collection of information is necessary for the proper performance of the functions of the Bureau of Justice Statistics, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Abstract: Title 18, United States Code 923 (g) (3) provides that “Each licensee shall prepare a report of multiple sales of other dispositions whenever the licensee sells or otherwise disposes of, at one time or during any five consecutive business days, two or more pistols, or revolvers, or any combination of pistols or revolvers totaling two or more, to an unlicensed person.” The report shall be prepared on ATF F 3310.4, Report of Multiple Sale or Other Disposition of Pistols and Revolvers.

Overview of This Information Collection

1. Type of Information Collection: Extension of a previously approved collection.

2. The Title of the Form/Collection: Report of Multiple Sale or Other Disposition of Pistols and Revolvers.

3. The agency form number, if any, and the applicable component of the Department sponsoring the collection: Form number: ATF Form 3310.4. Component: Bureau of Alcohol, Tobacco, Firearms and Explosives, U.S. Department of Justice.

4. Affected public who will be asked or required to respond, as well as the obligation to respond: Affected Public: State, local and tribal governments, Private Sector-for or not for profit institutions, Federal Government. The obligation to respond is mandatory per Title 18 U.S.C 923 (g)(3).

5. An estimate of the total number of respondents and the amount of time estimated for an average respondent to respond: An estimated 78,657 respondents will complete this form 8.247 times annually, and it will take each respondent approximately 15 minutes to complete their responses.

6. An estimate of the total annual burden (in hours) associated with the collection: The estimated annual public burden associated with this collection is 162,163 hours, which is equal to 78,657 (total respondents) * 8.247 (# of response per respondent) * 0.25 (5 minutes).

7. An estimate of the total annual cost burden associated with the collection, if applicable: $47,351.

Total Burden Hours
Activity | Number of respondents | Frequency | Total annual responses | Time per response (minutes) | Total annual burden (hours)
ATF F 3310.4 | 78,657 | 8.247 | 648,653 | 15 | 162,163

If additional information is required contact: Darwin Arceo, Department Clearance Officer, United States Department of Justice, Justice Management Division, Policy and Planning Staff, Two Constitution Square, 145 N Street NE, 4W-218, Washington, DC.

Dated: August 14, 2024.
Darwin Arceo,
Department Clearance Officer for PRA, U.S. Department of Justice.

[FR Doc. 2024-18532 Filed 8-16-24; 8:45 am]

BILLING CODE 4410-FY-P